DEPARTMENT OF THE INTERIOR

Bureau of Reclamation

[RR03510000, XXXR0680R1, RR171260120019400]

Final Environmental Impact Statement, Pure Water San Diego Program, North City Project; San Diego County, California

AGENCY: Bureau of Reclamation, Interior.

ACTION: Notice of availability.

SUMMARY: The Bureau of Reclamation and the City of San Diego have completed a final Environmental Impact Report/Environmental Impact Statement for the North City Project, the first phase of the Pure Water San Diego Program—a water and wastewater facilities plan to produce potable water from recycled water. The Bureau of Reclamation is recommending the Miramar Alternative as the preferred alternative for approval.

DATES: The Bureau of Reclamation will not make a decision on the proposed project until at least 30 days after the Notice of Availability is published by the Environmental Protection Agency.

FOR FURTHER INFORMATION CONTACT: Doug McPherson, Environmental Protection Specialist, Bureau of Reclamation, Southern California Area Office, 27708 Jefferson Avenue, Suite 202, Temecula, CA 92590; telephone: (951) 695-5310; facsimile: (951) 695-5319; or email: dmcpherson@usbr.gov.

SUPPLEMENTARY INFORMATION: The Miramar Alternative will expand the existing North City Water Reclamation Plant and construct an adjacent North City Pure Water Facility with a purified water pipeline to Miramar Reservoir. A project alternative would install a longer pipeline to deliver product water to the larger San Vicente Reservoir instead.

Other project components include: A new pump station and forcemain to deliver additional wastewater to the North City Water Reclamation Plant, a brine discharge pipeline, upgrades to the existing Metropolitan Biosolids Center, and a renewable energy facility with a landfill gas pipeline crossing Marine Corps Air Station Miramar and the Miramar National Cemetery.

The Bureau of Reclamation issued a Notice of Intent on August 5, 2016 (81 FR 51937). The United States Marine Corps, the Veterans Administration, and the Environmental Protection Agency each accepted cooperating agency status. Notice of Availability for the draft EIR/EIS was published by the Environmental Protection Agency on November 24, 2017 (82 FR 55831) and by the Bureau of Reclamation on November 28, 2017 (82 FR 56264). The comment period on the draft EIR/EIS ended on January 8, 2018. The final EIR/EIS contains responses to all comments received.

The final EIR/EIS is available on the City of San Diego website at: https://www.sandiego.gov/water/purewater/purewatersd/reports.

Dated: April 23, 2018.
Terrance J. Fulp,
Regional Director, Lower Colorado Region.

[FR Doc. 2018-08942 Filed 4-26-18; 8:45 am]

BILLING CODE 4332-90-P